DEPARTMENT OF COMMERCE

Bureau of Industry and Security

15 CFR Parts 764 and 766

[Docket No. 060511128-6128-01]

RIN 0694-AD63

Antiboycott Penalty Guidance

AGENCY: Bureau of Industry and Security, Commerce.

ACTION: Proposed rule; correction.

SUMMARY: This notice corrects a transposition error in the Regulatory Identification Number (RIN) in the preamble to a proposed rule that the Bureau of Industry and Security published on June 30, 2006 (71 FR 37571). The correct RIN is 0694-AD63. The RIN was incorrectly listed as 0694-AD36. In addition this notice corrects that same transposition error that appeared in the final sentence of the ADDRESSES paragraph of the preamble of that propose rule. As corrected, the final sentence of the ADDRESSES paragraph reads:

ADDRESSES: * * * Please refer to RIN 0694-AD63 in all comments.

FOR FURTHER INFORMATION CONTACT: Edward O. Weant III, Acting Director, Office of Antiboycott Compliance, Bureau of Industry and Security, United States Department of Commerce, at (202) 482-2381.

Dated: June 30, 2006.
Eileen Albanese,
Director, Office of Export Services.

[FR Doc. E6-10560 Filed 7-5-06; 8:45 am]

BILLING CODE 3510-33-P